DEPARTMENT OF ENERGY

Draft Environmental Assessment (EA) for Future Location of the Heat Source/Radioisotope Power System Assembly and Test Operations Currently Located at the Mound Site—Issued for public comments

AGENCY: Department of Energy.

ACTION: Solicitation of public comments.

SUMMARY: In compliance with the requirements of the National Environmental Policy Act of 1969, the Department has prepared a draft EA for the future location of the Heat Source/Radioisotope Power Systems (HS/RPS) assembly and test operations program currently located at the Mound site in Miamisburg, Ohio. After the events of September 11, 2001, a department-wide review of security identified the need for enhanced security measures at Mound to protect the materials associated with the program and the surrounding community. The Department analyzed a range of options including, upgrading the existing infrastructure at Mound site to enable the program to remain in that location as well as transferring the operations to more secure locations at the Pantex Site in Texas or the Argonne National Laboratory-West site in Idaho. The Department's highest priority is ensuring the health and safety of the workers at its sites and the communities surrounding them. With this responsibility at the forefront, the Department held four public meetings to discuss the future of this program. Information received from this public scoping process and preliminary assessments of the costs and schedules associated with the various alternatives, led to identification of DOE's Argonne National Laboratory-West site as the preferred site for the future location of the HS/RPS program. The Department is soliciting comments on the draft EA from the affected Federal, state, and local agencies and Tribal governments, and interested public.

DATES: Comments on the draft EA are due on August 20, 2002.

ADDRESSES: Copies of the EA are available from Mr. Timothy A. Frazier and comments should be transmitted to him in any of the following ways: U.S. mail to: Mr. Timothy A. Frazier, U.S. Department of Energy, PO Box 66, Miamisburg, OH 45343-0066 [Phone: (937) 865-3748]; Facsimile: (937) 865-4489; electronic mail: Tim.Frazier@HQ.DOE.GOV.

SUPPLEMENTARY INFORMATION: The Department issued a Federal Register notice on May 31, 2002, announcing the public scoping meetings for the subject EA. Public scoping meetings were held in Washington, DC metropolitan area, Miamisburg, Ohio, Amarillo, Texas, and Idaho Falls, Idaho. Comments received on the scope of the EA were considered in preparation of the draft of the EA which is now being made available to the public and affected government agencies and Tribes. For consideration in preparation of the final EA, comments should be transmitted to Mr. Timothy A. Frazier, as specified above, no later than August 20, 2002. Comments received after that date will be considered to the extent practicable. The Department has now identified the Argonne National Laboratory-West site as the preferred site for the future location of the HS/RPS program. On the basis of the significance of environmental impacts evaluated in the EA, the Department will issue a Finding of No Significant Impact or proceed with the preparation of an Environmental Impact Statement.

Issued in Washington, DC, July 23, 2002.
William D. Magwood, IV,
Director, Office of Nuclear Energy, Science and Technology.

[FR Doc. 02-19220 Filed 7-29-02; 8:45 am]

BILLING CODE 6450-01-P